DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of one or more persons that have been placed on OFAC's Specially Designated Nationals and Blocked Persons List (SDN List) based on OFAC's determination that one or more applicable legal criteria were satisfied. All property and interests in property subject to U.S. jurisdiction of these persons are blocked, and U.S. persons are generally prohibited from engaging in transactions with them. Additionally, OFAC is publishing the names of one or more persons that have been removed from OFAC's SDN List. Their property and interests in property are no longer blocked, and U.S. persons are no longer generally prohibited from engaging in lawful transactions with them.

DATES: See Supplementary Information section for applicable date(s).

FOR FURTHER INFORMATION CONTACT: OFAC: Andrea M. Gacki, Director, tel.: 202-622-2480; Associate Director for Global Targeting, tel.: 202-622-2420; Assistant Director for Licensing, tel.: 202-622-2480; Assistant Director for Regulatory Affairs, tel.: 202-622-4855; or the Assistant Director for Sanctions Compliance & Evaluation, tel.: 202-622-2490.

SUPPLEMENTARY INFORMATION:

Electronic Availability

The Specially Designated Nationals and Blocked Persons List and additional information concerning OFAC sanctions programs are available on OFAC's website (www.treasury.gov/ofac).

Notice of OFAC Actions

On May 25, 2022, OFAC determined that the property and interests in property subject to U.S. jurisdiction of the following persons are blocked under the relevant sanctions authorities listed below.

BILLING CODE 4810-AL-P

BILLING CODE 4810-AL-C

On May 31, 2013, OFAC designated the following persons pursuant to Executive Order 13224 of September 23, 2001, “Blocking Property and Prohibiting Transactions With Persons Who Commit, Threaten to Commit, or Support Terrorism.” On May 25, 2022, OFAC determined that circumstances no longer warrant the inclusion of the following persons on the SDN List under this authority. Accordingly, the property and interests in property subject to U.S. jurisdiction of the following persons are no longer blocked, and they have been removed from the SDN List.

Entity

1. UKRAINIAN-MEDITERRANEAN AIRLINES (a.k.a. UKRAINSKE-TSCHERMOMORSKIE AVIALINII; a.k.a. UM AIR), 7 Shulyavska Street, Kiev 03055, Ukraine; Building Negin Sai Apartment 105, Valiasr Street, Tehran, Iran; 29 Ayar Street, Julia Dumna Building, Damascus, Syria; 38 Chkalova Street, building 1, office 10, Minsk, Belarus; Additional Sanctions Information—Subject to Secondary Sanctions [SDGT] [IFSR].

Individual:

1. MERHEJ, Rodrigue Elias (a.k.a. MERKHEZH, Rodrig); DOB 1970; alt. DOB 1969; alt. DOB 1971; POB Lebanon; Additional Sanctions Information—Subject to Secondary Sanctions (individual) [SDGT] [IFSR].

Dated: May 25, 2022.
Andrea M. Gacki,
Director, Office of Foreign Assets Control, U.S. Department of the Treasury.

[FR Doc. 2022-11756 Filed 5-31-22; 8:45 am]

BILLING CODE 4810-AL-P